DEPARTMENT OF TRANSPORTATION

Federal Aviation Administration

14 CFR Part 73

[Docket No. FAA-2003-16438; Airspace Docket No. 03-ASW-02]

RIN 2120-AA66

Proposed Modification of Restricted Areas 3801A, 3801B, and 3801C, Camp Claiborne, LA

AGENCY: Federal Aviation Administration (FAA), DOT.

ACTION: Notice of proposed rulemaking.

SUMMARY: This action proposes to revise Restricted Area 3801A (R-3801A), 3801B (R-3801B), and 3801C (R-3801C), at Camp Claiborne, LA. The United States Air Force (USAF) requested that the FAA take action to eliminate the area currently designated as R-3801A; expand the vertical limits of the areas currently designated as R-3801B and R-3801C; and reconfigure R-3801B and R-3801C into a new R-3801A, R-3801B, and R-3801C. Additionally, the USAF has requested that the FAA take action to change the controlling agency of R-3801A, R-3801B, and R-3801C from the FAA, Houston Air Route Traffic Control Center (ARTCC), to the U.S. Army, Fort Polk Approach Control. These modifications are proposed to fulfill new USAF training requirements for the practice of high altitude release bombing.

DATES: Comments must be received on or before February 20, 2004.

ADDRESSES: Send comments on this proposal to the Docket Management System, U.S. Department of Transportation, Room Plaza 401, 400 Seventh Street, SW., Washington, DC 20590-0001. You must identify “FAA Docket No. FAA-2003-16438 and Airspace Docket No. 03-ASW-02,” at the beginning of your comments. You may also submit comments on the Internet at http://dms.dot.gov.

FOR FURTHER INFORMATION CONTACT: Steve Rohring, Airspace and Rules Division, ATA-400, Office of Air Traffic Airspace Management, Federal Aviation Administration, 800 Independence Avenue, SW., Washington, DC 20591; telephone: (202) 267-8783.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2003-16438 and Airspace Docket No. 03-ASW-02) and be submitted in triplicate to the Docket Management System (see ADDRESSES section for address and phone number). You may also submit comments through the Internet at http://dms.dot.gov.

Commenters wishing the FAA to acknowledge receipt of their comments on this notice must submit with those comments a self-addressed, stamped postcard on which the following statement is made: “Comments to FAA Docket No. FAA-2003-16438 and Airspace Docket No. 03-ASW-02.” The postcard will be date/time stamped and returned to the commenter.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of NPRMs

An electronic copy of this document may be downloaded through the Internet at http://dms.dot.gov. Recently published rulemaking documents can also be accessed through the FAA's Web page at http://www.faa.gov or the Federal Register's Web page at http://www.gpo.access.gov/fr/index.html

You may review the public docket containing the proposal, any comments received, and any final disposition in person at the Dockets Office (see ADDRESSES section for address and phone number) between 9 a.m. and 5 p.m., Monday through Friday, except Federal holidays. An informal docket may also be examined during normal business hours at the office of the Regional Air Traffic Division, Federal Aviation Administration, 2601 Meacham Blvd; Fort Worth, TX 76193-0500.

Persons interested in being placed on a mailing list for future NPRM's should call the FAA's Office of Rulemaking, (202) 267-9677, for a copy of Advisory Circular No. 11-2A, Notice of Proposed Rulemaking Distribution System, which describes the application procedure.

The Proposal

As a result of new USAF training requirements, the FAA is proposing an amendment to Title 14 Code of Federal Regulations (14 CFR) part 73 (part 73) to revise R-3801A, R-3801B, and R-3801C, at Camp Claiborne, LA. The USAF requested that the FAA take action to eliminate the area currently designated as R-3801A; expand the vertical limits of the areas currently designated as R-3801B and R-3801C from 14,000 feet MSL to FL 230; and reconfigure R-3801B and R-3801C into a new R-3801A, R-3801B, and R-3801C. The lateral boundaries of the new R-3801A, R-3801B, and R-3801C would be the same as the current R-3801B and R-3801C. The altitude structure for the revised airspace areas would be from the surface to 10,000 feet MSL for R-3801A; 10,000 feet MSL to FL180 for R-3801B; and FL180 to FL230 for R-3801C. The additional airspace is required to fulfill new USAF training requirements. Specifically, the new training requirements call for practicing the release of bombs from higher altitudes than are currently available within the existing airspace areas. Additionally, the USAF has requested that the FAA take action to change the controlling agency of R-3801A, R-3801B, and R-3801C from the FAA, Houston ARTCC, to the U.S. Army, Fort Polk Approach Control.

The FAA has determined that this proposed regulation only involves an established body of technical regulations for which frequent and routine amendments are necessary to keep them operationally current. Therefore, this proposed regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

This proposal will be subjected to an environmental analysis in accordance with FAA Order 1050.1D, Procedures for Handling Environmental Impacts, prior to any FAA final regulatory action.

List of Subjects in 14 CFR Part 73

Airspace, Navigation (air).

The Proposed Amendment

In consideration of the foregoing, the Federal Aviation Administration proposes to amend 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.63 [Amended]

2. § 73.63 is amended as follows:

* * * * *

R-3801A Camp Claiborne, LA (Amended)

By removing the current boundaries, designated altitudes, and controlling agency, and substituting the following:

Boundaries. Beginning at lat. 31°11′46″ N., long. 92°30′16″ W.; to lat. 31°05′16″ N., long. 92°34′51″ W.; to lat. 31°13′56″ N., long. 92°49′46″ W.; to lat. 31°18′01″ N., long. 92°46′31″ W.; to lat. 31°15′16″ N., long. 92°41′46″ W.; to lat. 31°17′11″ N., long. 92°40′11″ W.; to the point of beginning.

Designated altitudes. Surface to, but not including, 10,000 feet MSL.

Controlling agency. U.S. Army, Fort Polk Approach Control.

* * * * *

R-3801B Camp Claiborne, LA (Amended)

By removing the current boundaries, designated altitudes, and controlling agency and substituting the following:

Boundaries. Beginning at lat. 31°11′46″ N., long. 92°30′16″ W.; to lat. 31°05′16″ N., long. 92°34′51″ W.; to lat. 31°13′56″ N., long. 92°49′46″ W.; to lat. 31°18′01″ N., long. 92°46′31″ W.; to lat. 31°15′16″ N., long. 92°41′46″ W.; to lat. 31°17′11″ N., long. 92°40′11″ W.; to the point of beginning.

Designated altitudes. 10,000 feet MSL to, but not including, FL 180.

Controlling agency. U.S. Army, Fort Polk Approach Control.

* * * * *

R-3801C Camp Claiborne, LA (Amended)

By removing the current boundaries, designated altitudes, and controlling agency and substituting the following:

Boundaries. Beginning at lat. 31°11′46″ N., long. 92°30′16″ W.; to lat. 31°05′16″ N., long. 92°34′51″ W.; to lat. 31°13′56″ N., long. 92°49′46″ W.; to lat. 31°18′01″ N., long. 92°46′31″ W.; to lat. 31°15′16″ N., long. 92°41′46″ W.; to lat. 31°17′11″ N., long. 92°40′11″ W.; to the point of beginning.

Designated altitudes. FL 180 to FL 230.

Controlling agency. U.S. Army, Fort Polk Approach Control.

* * * * *

Issued in Washington, DC, on December 30, 2003.
Paul Gallant,
Acting Manager, Airspace and Rules Division.

[FR Doc. 04-238 Filed 1-5-04; 8:45 am]

BILLING CODE 4910-13-P